DEPARTMENT OF TRANSPORTATION

Surface Transportation Board

[STB Finance Docket No. 34977]

BNSF Railway Company—Trackage Rights Exemption—Illinois Central Railroad Company

Pursuant to a written trackage rights agreement dated December 18, 2006, Illinois Central Railroad Company (CN) has agreed to grant overhead trackage rights to BNSF Railway Company (BNSF): (1) On CN's Centralia Subdivision, extending between the connection with BNSF trackage at or near CN's milepost 252.5 in Centralia, IL, and, on CN's Fulton Subdivision, the connection with BNSF trackage at or near CN's milepost 392.3 in Memphis, TN; ¹ and (2) on CN's Bluford Subdivision, extending between the connection with Paducah and Illinois Railroad Company and Paducah and Louisville Railway Inc. trackage at or near CN's milepost 0.2 in Chiles Junction, KY, and CN's milepost 2.2 in Maxon, KY, respectively, and, on CN's Fulton Subdivision, the connection with BNSF at or near CN's milepost 392.3 in Memphis, TN, a distance of approximately 437 miles, all within the states of IL, TN and KY.²

¹ Trackage rights extending between milepost 387.91 and milepost 389.98 on CN's Fulton Subdivision are excluded because that segment of track is owned and operated by CSXT Transportation, Inc.

² A redacted version of the trackage rights agreement between CN and BNSF was filed with the notice of exemption. The full version of the agreement, as required by 49 CFR 1180.6(a)(7)(ii), was concurrently filed under seal along with a motion for protective order. The motion is being addressed in a separate decision.

The transaction is scheduled to be consummated on March 1, 2007.³

³ The trackage rights agreement provides for an initial term of 20 years from December 18, 2006, and that BNSF shall have the right to terminate the agreement upon advising CN 60 days in advance by written notice. The parties must seek appropriate Board authority for the trackage rights to expire.

The purpose of the trackage rights is to facilitate the movement of traffic between (1) Centralia, IL, and Memphis, TN, (2) Maxon, KY, and Memphis, TN, and (3) Chiles Junction, KY, and Memphis, TN. BNSF will operate its own trains with its own crews over the lines.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by February 22, 2007 (at least 7 days before the exemption becomes effective).

An original and 10 copies of all pleadings, referring to STB Finance Docket No. 34977, must be filed with the Surface Transportation Board, 1925 K Street, NW., Washington, DC 20423-0001. In addition, a copy of each pleading must be served on Sidney L. Strickland Jr., Sidney Strickland and Associates, PLLC, 3050 K Street, NW., Suite 101, Washington, DC 20007.

Board decisions and notices are available on our Web site at “www.stb.dot.gov.”

Decided: February 6, 2007.
By the Board, David M. Konschnik, Director, Office of Proceedings.
Vernon A. Williams,
Secretary.

[FR Doc. E7-2440 Filed 2-14-07; 8:45 am]

BILLING CODE 4915-01-P